ANTITRUST MODERNIZATION COMMISSION

Notice of Public Hearing

AGENCY: Antitrust Modernization Commission.

ACTION: Notice of public hearing.

SUMMARY: The Antitrust Modernization Commission will hold a public hearing on June 27, 2005. The topic of the hearing is indirect purchaser litigation.

DATES: June 27, 2005, 1 p.m. to 5 p.m. Interested members of the public may attend. Registration is not required.

ADDRESSES: Federal Trade Commission, 600 Pennsylvania Avenue, NW., Room 432, Washington, DC.

FOR FURTHER INFORMATION CONTACT: Andrew J. Heimert, Executive Director & General Counsel, Antitrust Modernization Commission: telephone: (202) 233-0701; e-mail: info@amc.gov. Mr. Heimert is also the Designated Federal Officer (DFO) for the Antitrust Modernization Commission.

SUPPLEMENTARY INFORMATION: The purpose of this hearing is for the Antitrust Modernization Commission to take testimony and receive evidence regarding indirect purchaser litigation. The hearing will consist of two panels. The first panel will run from 1 p.m. to 3 p.m. and the second panel will run from 3 p.m. to 5 p.m. Materials relating to the meeting, including a list of witnesses and the prepared statements of the witnesses, will be made available on the Commission's Web site (http://www.amc.gov) in advance of the hearing.

Interested members of the public may submit written testimony on the subject of the hearing in the form of comments, pursuant to the Commission's request for comments. See 70 Fed. Reg. 28,902 (May 19, 2005). Members of the public will not be provided with an opportunity to make oral remarks at the hearing.

The AMC is holding this hearing pursuant to its authorizing statute. Antitrust Modernization Commission Act of 2002, Pub. L. 107-273, § 11057(a), 116 Stat. 1758, 1858.

Dated: June 3, 2005.
By direction of Deborah A. Garza, Chair of the Antitrust Modernization Commission.
Approved by Designated Federal Officer:
Andrew J. Heimert,
Executive Director and General Counsel, Antitrust Modernization Commission.

[FR Doc. 05-11346 Filed 6-7-05; 8:45 am]

BILLING CODE 6820-YM-P